ENVIRONMENTAL PROTECTION AGENCY

40 CFR Part 81

[Docket #: WA-01-002; FRL-6997-1]

Finding of Attainment for Carbon Monoxide; Spokane CO Nonattainment Area, Washington

AGENCY: Environmental Protection Agency (EPA).

ACTION: Notice of proposed rule.

SUMMARY: EPA is proposing to find that the Spokane nonattainment area in Washington has attained the National Ambient Air Quality Standards (NAAQS) for carbon monoxide (CO) as of December 31, 2000.

DATES: Written comments must be received on or before July 16, 2001.

ADDRESSES: Written comments should be mailed to Christi Lee, Office of Air Quality, Mailcode OAQ-107, EPA Region 10, 1200 Sixth Avenue, Seattle, Washington, 98101. Copies of documents relevant to this action are available for public review during normal business hours (8 a.m. to 4:30 p.m.) at this same address.

FOR FURTHER INFORMATION CONTACT: Christi Lee, Office of Air Quality Mail Code OAQ-107, EPA Region 10, 1200 Sixth Avenue, Seattle Washington, 98101, (360) 753-9079.

SUPPLEMENTARY INFORMATION: Throughout this document, the words “we,” “us,” or “our” means the Environmental Protection Agency (EPA).

Table of Contents

I. Background

A. Designation and Classification of CO Nonattainment Areas.

B. How Does EPA Make Attainment Determinations?

C. What Is the Attainment Date for the Spokane CO Nonattainment Area?

II. EPA's Proposed Action

III. Basis for EPA's Action

IV. Administrative Requirements

I. Background

A. Designation and Classification of CO Nonattainment Areas

The Clean Air Act (CAA) Amendments of 1990 authorized EPA to designate areas across the country as nonattainment, and to classify these areas according to the severity of the air pollution problem. Pursuant to section 107(d) of the CAA, following enactment on November 15, 1990, States were requested to submit lists, within 120 days, which designated all areas of the country as either attainment, nonattainment, or unclassifiable for CO. The EPA was required to promulgate these lists of areas no later than 240 days following enactment of the CAA Amendments (see 56 FR 56694, (November 6, 1991)).

On enactment of the CAA Amendments, a new classification structure was created for CO nonattainment areas, pursuant to section 186 of the CAA, which included both a moderate and a serious area classification. Under this classification structure, moderate areas with a design value of 9.1-16.4 ppm, were expected to attain the CO NAAQS as expeditiously as practicable, but no later than December 31, 1995. CO nonattainment areas designated as serious, with a design value of 16.5 ppm and above, were expected to attain the CO NAAQS as expeditiously as practicable, but no later than December 31, 2000.

States containing areas designated as either moderate or serious for CO had the responsibility of developing and submitting to EPA State Implementation Plans (SIPs) which addressed the nonattainment air quality problems in those areas. The EPA issued general guidance concerning the requirements for SIP submittals, which included requirements for CO nonattainment area SIPs, pursuant to Title I of the CAA (see generally, 57 FR 13498 (April 16, 1992), and 57 FR 18070 (April 28, 1992)). The air quality planning requirements for moderate and serious CO nonattainment areas are addressed in sections 186-187 respectively of the CAA, which pertain to the classification of CO nonattainment areas, as well as to the requirements for the submittal of both moderate and serious area SIPs.

The EPA has the responsibility for determining whether a nonattainment area has attained the CO NAAQS by the applicable attainment date ¹. In this case the EPA is required to make determinations concerning whether serious CO nonattainment areas attained the NAAQS by their December 31, 2000 attainment date. Pursuant to the CAA, the EPA is required to make attainment determinations for these areas by June 30, 2001, no later than 6 months following the attainment date for the areas. Therefore, this action is being taken to make a determination of attainment for a serious CO nonattainment area with a December 31, 2000 attainment date.

¹ See sections 179(c) and 186(b)(2) of the CAA Amendments.

B. How Does EPA Make Attainment Determinations?

Section 179(c)(1) of the CAA provides that attainment determinations are to be based upon an area's “air quality as of the attainment date, and section 186(b)(2) is consistent with this requirement.” EPA will make the determination as to whether an area's air quality is meeting the CO NAAQS based upon air quality data gathered at CO monitoring sites in the nonattainment area which has been entered into the Aerometric Information Retrieval System (AIRS). This data is reviewed to determine the area's air quality status in accordance with EPA guidance at 40 CFR 50.8, and in accordance with EPA policy and guidance as stated in a memorandum from William G. Laxton, Director Technical Support Division, entitled “Ozone and Carbon Monoxide Design Value Calculations,” dated June 18, 1990.

The 8-hour CO design value is used to determine attainment of CO areas, and is computed by first finding the maximum and second maximum (non-overlapping) 8-hour values at a monitoring site for the most recent 2 years of air quality data. Then the maximum value of the second high values is used as the design value for the monitoring site. The CO NAAQS requires that not more than one 8-hour average per year can exceed 9.0 ppm (greater than or equal to 9.5 ppm to adjust for rounding) at a monitoring site. CO attainment is evaluated and determined by reviewing 8 quarters of data, or a total of 2 complete calendar years of data for an area. If an area has a design value that is greater than 9.0 ppm, this means that a monitoring site in the area, where the second highest (non-overlapping) 8-hour average was measured, was greater than 9.0 ppm in at least 1 of the 2 years being reviewed to determine attainment for the area. When at least two values were measured above the NAAQS for CO at a monitoring site, the standard was not met in the area.

C. What Is the Attainment Date for the Spokane CO Nonattainment Area?

As stated above, the Spokane CO nonattainment area was designated nonattainment for CO by operation of law upon enactment of the CAA Amendments of 1990. Under 186(a) of the CAA, each CO area designated nonattainment was also classified by operation of law as either “moderate” or “serious” depending on the severity of the area's air quality problem. States containing areas that were classified as moderate nonattainment were required to attain the CO NAAQS as expeditiously as practicable but no later than December 31, 1995. On April 13, 1998, EPA made a finding that Spokane did not attain the CO NAAQS by the December 31, 1995 attainment date for the moderate nonattainment area (63 FR 12007, dated March 12, 1998). This finding is based on EPA's review of monitored air quality data for compliance with the CO NAAQS. As a result of this finding the Spokane CO nonattainment area was reclassified as a serious CO nonattainment area by operation of law. As a result of this reclassification, the State was to attain the CO NAAQS as expeditiously as practicable but no later than December 31, 2000, the CAA attainment date for serious areas.

II. EPA's Proposed Action

EPA is, by today's action, making the determination that the Spokane serious CO nonattainment area did attain the CO NAAQS by its attainment date of December 31, 2000. As explained below, Spokane remains classified a serious CO nonattainment area and today's action does not redesignate Spokane to attainment

III. Basis for EPA's Action

Washington has four CO monitoring sites in the Spokane CO nonattainment area. The air quality data in AIRS for these monitors show that, for the 2-year period from 1999 through 2000, there were no violations of the 8-hour CO standard. The highest 8-hour CO design value recorded during this 2-year period was 5.7 ppm which was measured at the Hamilton Street monitoring site in 1999. Based on this information, EPA has determined that the area attained the CO NAAQS standard as of the attainment date of December 31, 2000.

In summary, EPA proposes to find that the Spokane CO nonattainment area attained the CO NAAQS as of the attainment date of December 31, 2000. If we finalize this proposal, consistent with CAA section 188, the area will remain a serious CO nonattainment area with the additional planning requirements that apply to serious CO nonattainment areas. This proposed finding of attainment should not be confused with a redesignation to attainment under CAA section 107(d). Washington has not submitted a maintenance plan as required under section 175A(a) of the CAA or met the other CAA requirements for redesignation to attainment. The designation status in 40 CFR part 81 will remain serious nonattainment for the Spokane CO nonattainment area until such time as EPA finds that Washington has met the CAA requirements for redesignations to attainment.

We are soliciting public comments on EPA's proposal to find that the Spokane CO nonattainment area has attained the CO NAAQS as of the December 31, 2000, attainment date. These comments will be considered before taking final action. Interested parties may participate in the Federal rulemaking process by submitting written comments to the EPA Regional office listed in the ADDRESSES section of this document.

IV. Administrative Requirements

Under Executive Order 12866 (58 FR 51735, October 4, 1993), this proposed action is not a “significant regulatory action” and therefore is not subject to review by the Office of Management and Budget. This proposed action merely makes a determination based on air quality data and does not impose any requirements. Accordingly, the Administrator certifies that this proposed rule will not have a significant economic impact on a substantial number of small entities under the Regulatory Flexibility Act (5 U.S.C. 601 et seq.). Because this proposed rule does not impose any enforceable duty, it does not contain any unfunded mandate or significantly or uniquely affect small governments, as described in the Unfunded Mandates Reform Act of 1995 (Public Law 104-4). This proposed rule also does not have a substantial direct effect on one or more Indian tribes, on the relationship between the Federal Government and Indian tribes, or the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely makes a determination based on air quality data and does not alter the relationship or the distribution of power and responsibilities established in the Clean Air Act. This proposed rule also is not subject to Executive Order 13045 (62 FR 19885, April 23, 1997), because it is not economically significant.

The requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This proposed rule does not impose an information collection burden under the provisions of the Paperwork Reduction Act of 1995 (44 U.S.C. 3501 et seq.).

List of Subjects in 40 CFR Part 81

Environmental protection, Air pollution control, Carbon monoxide, National parks, Reporting and recordkeeping requirements, Wilderness areas.

Dated: June 4, 2001.
Ronald A. Kreizenbeck,
Acting Regional Administrator, Region 10.

[FR Doc. 01-15148 Filed 6-14-01; 8:45 am]

BILLING CODE 6560-50-P